FEDERAL RETIREMENT THRIFT INVESTMENT BOARD

Notice of Board Meeting

DATES: September 26, 2023 at 9 a.m.

ADDRESSES: Telephonic. Dial-in (listen only) information: Number: 1-202-599-1426, Code: 726 107 825#; or via web: https://teams.microsoft.com/l/meetup-join/19%3ameeting_OGI3OTFlOGItOWM2YS00Y2FmLWI1NmYtZTUwM2IwNGNkMjU4%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda

Open Session

1. Approval of the August 22, 2023, Board Meeting Minutes

2. Monthly Reports

(a) Participant Report

(b) Investment Report

(c) Legislative Report

3. Quarterly Reports

(d) Vendor Risk Management Report

4. Enterprise Risk Management Update

Closed Session

5. Information Covered Under 5 U.S.C. 552b (c)(6) and (c)(10)

Authority: 5 U.S.C. 552b (e)(1).

Dated: September 14, 2023.
Dharmesh Vashee,
General Counsel, Federal Retirement Thrift Investment Board.

[FR Doc. 2023-20217 Filed 9-18-23; 8:45 am]

BILLING CODE P